DEPARTMENT OF ENERGY

Certification of the Radiological Condition of the Kimble Property in Hamilton, Ohio

AGENCY: Department of Energy.

ACTION: Notice of Certification.

SUMMARY: The Department of Energy (DOE) has completed remedial actions to decontaminate a property in Hamilton, Ohio. Formerly, the property was found to contain quantities of residual radioactive material resulting from materials received from the Department of Energy Fernald Area Office operations. Radiological surveys show that the property now meets applicable requirements for radiologically unrestricted use.

ADDRESSES: The certification docket is available at the following locations:

Public Reading Room, Room 1E-190, Forrestal Building, U.S. Department of Energy, 1000 Independence Avenue, S.W., Washington, D.C. 20585

Public Environmental Information Center, U.S. Department of Energy, 10995 Hamilton-Cleves Highway, Harrison, OH 45030.

FOR FURTHER INFORMATION CONTACT: Jack R. Craig, Director, Fernald Area Office, U.S. Department of Energy, Cincinnati, OH 45253, (513) 648-3101 Fax: (513) 648-3071.

SUPPLEMENTARY INFORMATION: The Department of Energy, Ohio Field Office, has conducted remedial action at the Kimble Property in Hamilton, Ohio. The remedial action, commenced in 1994, was conducted pursuant to standards established in DOE Order 5400.5 for the purpose of protecting the health and safety of the public against radiation in conducting the Department's programs.

In 1973, DOE-Fernald declared various materials from the Fernald Plant to be surplus and subject to public sale. Mr. Kimble, a plant employee at that time, purchased a plant maintenance bus, redwood from a plant cooling tower, and items of construction hardware. These materials were released to Mr. Kimble for unrestricted use according to then-applicable standards (0.3 rad/hr) and were transported to the Kimble property.

In 1994, at the request of the property owner, DOE-Fernald performed a radiological survey of the Kimble property and identified contamination in excess of the current DOE surface contamination guidelines for beta-gamma emitters. The survey revealed that the radiactive contamination was primarily associated with the redwood and, to a lesser extent, with soil, pipes, and assorted hardware. In addition to investigating radioactive contamination, DOE-Fernald noted the need to investigate the potential migration from ash or weathered redwood of arsenic and chromium contaminants originating from preservatives used to treat the redwood. Remediation activities were initiated in August, 1995 and were concluded in June, 1996.

Post-remedial action surveys have demonstrated and DOE has certified that the subject property is in compliance with the Department's radiological decontamination criteria and standards. The standards are established to protect members of the general public and occupants of the properties and to ensure that future use of the properties will result in no radiological exposure above applicable health-based guidelines.

The certification docket will be available for review between 9:00 a. m. and 4:00 p.m., Monday through Friday (except federal holidays) in the Department's Public Reading Room, located in Room 1E-190 of the Forrestal Building, 1000 Independence Avenue, S.W., Washington, D.C. 20585. Copies of the certification docket will also be available in the DOE Public Environmental Information Center, U.S. Department of Energy, 10995 Hamilton-Cleves Highway, Harrison, Ohio 45030.

DOE, through the Ohio Field Office, has issued the following statement:

Statement of Certification: Kimble Property, Hamiltion, Ohio DOE, Ohio Field Office, has reviewed and analyzed the radiological data obtained following remedial action at the Kimble Property (4090 Stillwell Road, Hamilton, Ohio; Parcel Numbers 25, 26, and 46 filed in Plat Book Hanover, Page 18 in the records of Butler County, Ohio). Based on analysis of all data collected, including post-remedial action surveys, DOE certifies that any residual contamination which remains onsite falls within current guidelines for use without radiological restrictions. This certification of compliance provides assurance that reasonably foreseeable future use of the property will result in no radiological exposure above current guidelines established to protect members of the general public as well as occupants of the site.

Property owned by Daniel and Maxine Kimble: 4090 Stillwell Road, Hamilton, Ohio 45013.

Issued in Dayton, OH on August 9, 2000.
Susan Brechbill,
Manager, Ohio Field Office.

[FR Doc. 00-21505 Filed 8-22-00; 8:45 am]

BILLING CODE 6450-01-P